DEPARTMENT OF TRANSPORTATION

Federal Aviation Administration

[Docket No. FAA-2024-2081]

Agency Information Collection Activities: Clearance of Renewed Approval of Information Collection: Airport Noise Compatibility Planning

AGENCY: Federal Aviation Administration (FAA), Department of Transportation (DOT).

ACTION: Notice.

SUMMARY: In accordance with the Paperwork Reduction Act of 1995, the Federal Aviation Administration (FAA) invites public comments about our intention to request the Office of Management and Budget's (OMB) approval to renew an information collection. The collection involves information on voluntary airport noise compatibility programs. The information to be collected is necessary because noise compatibility program measures are eligible for Federal grants in-aid if they are provided to FAA for review and approval in advance. The respondents are airport sponsors that voluntarily submit noise exposure maps and noise compatibility programs to the FAA for review and approval.

DATES: Written comments should be submitted by December 13, 2024.

ADDRESSES: Written comments and recommendations for the FAA's request for OMB's approval to renew this information collection should be sent within 30 days of publication of this notice to www.reginfo.gov/public/do/PRAMain. Find this information collection by selecting “Currently under 30-day Review—Open for Public Comments” or by using the search function. Comments may also be submitted via electronic mail to susan.staehle@faa.gov.

FOR FURTHER INFORMATION CONTACT: Susan Staehle by electronic mail at: susan.staehle@faa.gov or by phone at: 202-267-7935.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0517.

Title: Airport Noise Compatibility Planning.

Form Numbers: There are no FAA forms associated with this collection.

Type of Review: Renewal of an Information Collection.

Background: The voluntarily submitted information from the collection process pursuant to tile 14 Code of Federal Regulations (CFR) part 150, (e.g., airport noise exposure maps and airport noise compatibility programs, or their revisions) is used by the FAA to conduct reviews of the submissions to determine if an airport sponsor's noise compatibility program is eligible for Federal grant funds. If airport sponsors did not voluntarily submit noise exposure maps and noise compatibility programs for FAA review and approval, the airport sponsor would not be eligible for the set aside of discretionary grant funds. The Federal Register Notice with a 60-day review period soliciting comments on this information collection of information was published in the Federal Register on August 5, 2024 (89 FR 63466) and no public comments were received.

Respondents: Approximately 15 airport sponsors.

Frequency: Information is collected on occasion.

Estimated Average Burden per Response: 2,080 hours.

Estimated Total Annual Burden: 31,200 hours.

Issued in Washington, DC, November 6, 2024.
Susan Staehle,
Environmental Protection Specialist, Office of Airports, Planning and Environmental Division, APP-400.

[FR Doc. 2024-26199 Filed 11-12-24; 8:45 am]

BILLING CODE 4910-13-P